GENERAL SERVICES ADMINISTRATION

[OMB Control No. 3090-0023]

Proposed Collection; Comment Request Entitled Surplus Personal Property Mailing List Application

AGENCY: Property Management Division (FBP), GSA.

ACTION: Notice of request for public comments regarding extension of a currently approved OMB clearance (3090-0023).

SUMMARY: Under the provisions of the Paperwork Reduction Act of 1995 (44 U.S.C. Chapter 35), the Office of Acquisition Policy will be submitting to the Office of Acquisition Policy will be submitting to the Office of Management and Budget (OMB) a request to review and approve an extension of a currently approved collection concerning Surplus Personal Property Mailing List Application.

Public comments are particularly invited on: Whether this collection of information is necessary for the proper performance of functions of the GSA, mainly on the Surplus Mailing List, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Comments may be submitted on or before March 4, 2002.

FOR FURTHER INFORMATION CONTACT: Victor Arnold-Bik, Property Management Division, GSA (703) 305-5809.

ADDRESSES: Comments regarding this burden estimate or any other aspect of this collection of information, including suggestions for reducing this burden, should be submitted to Stephanie Morris, General Services Administration (MVP), 1800 F Street, NW., Washington, DC 20405.

SUPPLEMENTARY INFORMATION:

A. Purpose

The General Services Administration is requesting the Office of Management and Budget (OMB) to extend a currently approved information collection, 3090-0023, concerning Surplus Personal Property Mailing List Application. This GSA Form 2170 is completed by persons who wish to have their names placed on the Surplus Personal Property Mailing List maintained by GSA Regional Sales Offices. Mailing labels are produced based on the type of property and geographical area indicated by the prospective bidder on the mailing list application.

B. Annual Reporting Burden

Respondents: 12,000.

Annual responses: 12,000.

Burden hours: 996.

Obtaining Copies of Proposals: A copy of this proposal may be obtained from the General Services Administration, Acquisition Policy Division (MVP), Room 4035, 1800 F Street, NW., Washington, DC 20405, or be telephoning (202) 501-4744, or by faxing your request to (202) 501-4067. Please cite OMB Control No. 3090-0023, Surplus Personal Property Mailing List Application, in all correspondence.

Dated: December 21, 2001.
Michael Carleton,
Chief Information Officer.

[FR Doc. 02-119 Filed 1-2-02; 8:45 am]

BILLING CODE 6820-61-M